DEPARTMENT OF ENERGY

Federal Energy Regulatory Commission

[Project No. 15094-002]

Ohio Power and Light, LLC; Notice Soliciting Scoping Comments and Procedural Schedule

Take notice that the following hydroelectric application has been filed with the Commission and is available for public inspection.

a. Type of Application: Original Major License.

b. Project No.: 15094-002.

c. Date filed: January 23, 2025.

d. Applicant: Ohio Power and Light, LLC.

e. Name of Project: Robert C. Byrd Locks and Dam Hydroelectric Project (RC Byrd Project or project).

f. Location: On the Ohio River in Mason County, West Virginia, at the U.S. Army Corps of Engineers' (Corps) Robert C. Byrd Locks and Dam. The project would occupy about 16 acres of federal land managed by the Corps.

g. Filed Pursuant to: Federal Power Act 16 U.S.C. 791(a)-825(r).

h. Applicant Contacts: Mr. Jeremy King, P.E., Chief Executive Officer, Current Hydro LLC (agent for the applicant, Ohio Power and Light, LLC), One Boston Place, Suite 2600, Boston, MA 02108, Telephone: (706) 835-8516, Email: jeremy@currenthydro.com; and Ms. Hailee Kessell, Senior Regulatory Lead, Current Hydro LLC, Telephone: (315) 558-9834, Email: hailee@currenthydro.com.

i. FERC Contact: Andy Bernick at (202) 502-8660, or andrew.bernick@ferc.gov.

j. Deadline for Filing Scoping Comments: on or before 5:00 p.m. Eastern Time on October 20, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Robert C. Byrd Locks and Dam Hydroelectric Project (P-15094-002).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The proposed RC Byrd Project would be constructed at the two parallel decommissioned lock chambers on the West Virginia side of RC Byrd Locks and Dam and would consist of the following new facilities: (1) two 110-foot-wide, 850-foot-long intake channels with trash racks (with a clear spacing of 5 inches); (2) two 110-foot-wide, 142.5-foot-long, and 67-foot-high concrete powerhouses within the decommissioned lock chambers; (3) three horizontal pit Kaplan turbine-generator units in each powerhouse with a total installed capacity of 28.5 megawatts (MW) for both powerhouses; (4) two 110-foot-wide, 955-foot-long tailrace channels; (5) a 250-foot-long, 12.47-kilovolt (kV) underground generator lead from each powerhouse to a new 110-foot-long and 110-foot-wide substation containing a 12.47-kV/69-kV step-up transformer; (6) a 2.5-mile-long, 69-kV overhead transmission line connecting the project to the point of interconnection at the existing Apple Grove substation; (7) a proposed 170-foot-long access road between the existing Corps facility access road and a parking area; and (8) appurtenant facilities.

The proposed RC Byrd Project would operate in a run-of-release mode, whereby outflow from the project would approximate inflow made available for generation by the Corps. The RC Byrd Project is projected to have an annual energy generation of about 165,169 megawatt-hours.

m. A copy of the application is available for review on the Commission's website at http://www.ferc.gov, using the “eLibrary” link. Enter the project's docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Scoping Process: Pursuant to the National Environmental Policy Act (NEPA), Commission staff, in cooperation with the Corps, intends to prepare a NEPA document that describes and evaluates the probable effects, including an assessment of the site-specific and cumulative effects, if any, of the proposed action and alternatives. At this time, we do not anticipate holding an on-site scoping meeting. Instead, we are soliciting written comments and suggestions on the preliminary list of issues and alternatives to be addressed in the NEPA document, as described in the scoping document (SD), issued September 25, 2025.

Copies of the SD outlining the subject areas to be addressed in the NEPA document were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

p. Procedural schedule: ¹

¹ Commission staff is aware that the project sponsor intends to pay a fee under Section 112 of the National Environmental Policy Act (NEPA), which establishes a deadline for the NEPA review of this project, and is awaiting notice from the Council on Environmental Quality (CEQ) that the fee has been paid. See 42 U.S.C. 4336f.

Issue Notice of Ready for Environmental Analysis: October 2025.

Dated: September 25, 2025.
Debbie-Anne A. Reese,
Secretary.

[FR Doc. 2025-18991 Filed 9-29-25; 8:45 am]

BILLING CODE 6717-01-P